DEPARTMENT OF COMMERCE

Census Bureau

Service Annual Survey

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before May 9, 2006.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to Ron Farrar, U.S. Census Bureau, Room 2761-FOB 3, Washington, DC 20233-6500, (301) 763-6782 or Jeff Barnett, U.S. Census Bureau, Room 2775-FOB 3, Washington, DC 20233-6500, (301) 763-2787.

SUPPLEMENTARY INFORMATION:

I. Abstract

The Service Annual Survey (SAS) produces annual nationwide estimates of revenue and expenses for selected service industries. Selected service industries include all or portions of the following NAICS sectors: Transportation and Warehousing (NAICS 48 and 49); Information, Finance and Insurance (NAICS 51 and 52); Real Estate and Rental and Leasing (NAICS 53); Professional, Scientific and Technical Services (NAICS 54); Administrative and Support and Waste Management and Remediation Services (NAICS 56); Health Care and Social Assistance (NAICS 62); Arts, Entertainment, and Recreation (NAICS 71); and Other Services (NAICS 81).

For selected industries in Information, Professional, Scientific and Technical Services, and Administrative Support and Waste Management and Remediation Services, SAS produces estimates of revenue by detailed NAPCS products. Inventory estimates for selected industries in the Information sector are produced, as well as estimates of expanded revenues for selected industries across multiple sectors. For industries with a significant non-profit component, separate estimates are developed for taxable firms and organizations exempt from federal income tax.

These data are needed to provide a sound statistical basis for the formation of policy by various governmental agencies. The Census Bureau is authorized by Title 13, United States Code, to conduct surveys necessary to furnish current data on subjects covered by the major censuses. These surveys provide continuing and timely national statistical data for the period between economic censuses.

The Bureau of Economic Analysis (BEA), the primary Federal user of these annual program statistics, uses the information in developing the national income and product accounts, compiling benchmark and annual input-output tables, and computing Gross Domestic Product (GDP) by industry. Agencies of the U.S. Department of Transportation (DOT) use the data for policy development and program management and evaluation. The Bureau of Labor Statistics (BLS) uses the data as inputs to its Producer Price Indexes and in developing productivity measurements. The Centers for Medicare and Medicaid Services (CMS) use the data in the development of the National Health Expenditure Accounts. The Federal Communications Commission (FCC) uses the data as a means for assessing FCC policy. The Census Bureau uses the data to provide new insight into changing structural and cost conditions that will impact the planning and design of future economic census questionnaires. Private industry also uses the data as a tool for marketing analysis.

Data are collected from all of the largest firms and from a sample of small- and medium-sized businesses selected using a stratified sampling procedure. The samples are reselected periodically, generally at 5-year intervals. The largest firms continue to be canvassed when the sample is re-drawn, while nearly all of the small- and medium-sized firms from the prior sample are replaced. We collect these data by using a mail-out/mail-back survey questionnaire.

II. Method of Collection

We collect this information by mail, fax, and telephone follow-up.

III. Data

OMB Number: 0607-0422.

Form Number: The SAS program consists of 276 unique forms, which are too extensive to list here.

Type of Review: Regular Submission.

Affected Public: Businesses or other for-profit organizations, not-for-profit institutions, Government hospitals and Federal Government.

Estimated Number of Respondents: 57,652.

Estimated Time Per Response: 3 hours and 38 minutes.

Estimated Total Annual Burden Hours: 209,453.

Estimated Total Annual Cost: The cost to the respondents for fiscal year 2006 is estimated to be $5,167,206 based on the median hourly salary of $24.67 for accountants and auditors. (Occupational Employment Statistics-Bureau of Labor Statistics “2004 National Occupational Employment and Wage Estimates”) http://www.bls.gov/oes/current/oes132011.htm.

Respondent's Obligation: Mandatory.

Legal Authority: Title 13, United States Code; Sections 182, 224 and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 6, 2006.
Madeleine Clayton,
Management Analyst, Office of the Chief Information Officer.

[FR Doc. E6-3411 Filed 3-9-06; 8:45 am]

BILLING CODE 3510-07-P